DEPARTMENT OF TRANSPORTATION

Pipeline and Hazardous Materials Safety Administration

Notice of Delays in Processing of Special Permits Applications

AGENCY: Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on September 10, 2012.
Donald Burger,
Chief, General Approval and Permits.

Application No. | Applicant | Reason for delay | Estimated date of completion
Modification to Special Permits
14372-M | Kidde Aerospace and Defense, Wilson, NC | 3 | 10-31-2012
New Special Permit Applications
15334-N | Floating Pipeline Company Incorporated, Halifax, Nova Scotia | 3 | 09-30-2012
15558-N | 3M Company St. Paul, MN | 4 | 10-31-2012
15569-N | Vexxel Composites, LLC, Brigham City, UT | 4 | 09-30-2012
15669-N | U.S. Department of Defense, Scott Air Force Base, IL | 4 | 09-30-2012
15552-N | POLY-COAT SYSTEMS, INC. Liverpool, TX | 4 | 10-31-2012
Party to Special Permits Application
14372-P | L'Hotellier France | 3 | 10-31-2012
13548-P | Interstate Battery System of The Redwoods Eureka, CA | 4 | 10-31-2012

[FR Doc. 2012-22780 Filed 9-18-12; 8:45 am]

BILLING CODE 4910-60-M